DEPARTMENT OF COMMERCE

National Oceanic and Atmospheric Administration

RIN 0648-XU18

Fisheries of the South Atlantic; South Atlantic Fishery Management Council; Public Meeting

AGENCY: National Marine Fisheries Service (NMFS), National Oceanic and Atmospheric Administration (NOAA), Commerce.

ACTION: Notice of a public meeting of the South Atlantic Fishery Management Council's (Council) Shrimp Review Panel via conference call.

SUMMARY: The South Atlantic Fishery Management Council will hold a meeting of its Shrimp Review Panel via conference call.

DATES: The call will take place February 19, 2010, beginning at 2 p.m. (EDT).

ADDRESSES: The call will be facilitated at the office of the South Atlantic Fishery Management Council, 4055 Faber Place Drive, Suite 201, North Charleston, SC 29405; telephone: (843) 571-4366 or toll free (866) SAFMC-10; fax: (843) 769-4520. Persons interested in listening to the discussions may call (877) 774-6707, PIN # 294.

FOR FURTHER INFORMATION CONTACT: Kim Iverson, Public Information Officer, South Atlantic Fishery Management Council, 4055 Faber Place Drive, Suite 201, North Charleston, SC 29405; telephone: (843) 571-4366 or toll free (866) SAFMC-10; fax: (843) 769-4520; email: kim.iverson@safmc.net.

SUPPLEMENTARY INFORMATION: The meeting is being convened to discuss: (1) a potential closure of Exclusive Economic Zone (EEZ) waters adjacent to South Carolina and Georgia to protect overwintering penaeid shrimp and, (2) the condition of the pink shrimp stock in the South Atlantic Region.

The Fishery Management Plan for the Shrimp Fishery of the South Atlantic Region (Shrimp FMP) allows for concurrent closure of the EEZ adjacent to those South Atlantic states that have closed their waters to the harvest of penaeid shrimp to protect overwintering stocks when they have been depleted by cold weather. South Carolina and Georgia have closed their waters to shrimp harvest and may request that the Council recommend concurrent closure of the EEZ off those states. The Review Panel will review available data to assess whether a recommendation to close EEZ waters is warranted.

Amendment 6 to the Shrimp FMP established a proxy for a minimum stock size threshold (MSST) as a parent stock size capable of producing maximum sustainable yield (MSY) the following year. Sampling data indicate that the stock is again below the MSST. A recommendation from the Review Panel is needed as to whether management action is necessary to bring the pink shrimp stock back above the MSST level.

The Panel will prepare a report regarding its recommendations and forward it to the Council's Shrimp Committee to determine if further action is needed.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for auxiliary aids should be directed to the Council office (see ADDRESSES) 3 days prior to the meeting.

Note: The times and sequence specified in this agenda are subject to change.

Dated: January 28, 2010.
Tracey L. Thompson,
Acting Director, Office of Sustainable Fisheries, National Marine Fisheries Service.

[FR Doc. 2010-2151 Filed 2-1-10; 8:45 am]

BILLING CODE 3510-22-S